ENVIRONMENTAL PROTECTION AGENCY

[FRL-6933-9]

Implementation Guidance for Radionuclides

AGENCY: Environmental Protection Agency.

ACTION: Notice, request for comments on the draft radionuclides implementation guidance.

SUMMARY: The United States Environmental Protection Agency (EPA) published the final National Primary Drinking Water Regulation for Radionuclides on December 7, 2000, in the Federal Register (65 FR 76708). The EPA has also prepared the Draft Implementation Guidance for the Radionuclides Rule. This Notice is announcing the availability of this draft document and asking for comments from stakeholders and the public. These comments will be considered in developing the Final Implementation Guidance document. The EPA encourages the full participation of all stakeholders and the public throughout this process.

The Draft Implementation Guidance for the Radionuclides Rule is a comprehensive reference to assist States in implementing the Rule. The draft guidance was developed based on the Final Rule, with input and review from EPA Headquarters and Regional staff, and comments from States and the public on a previous version of the document. Along with summaries of the Rule and implementation timelines, the document contains: A detailed explanation of the rule requirements; guidance for violation determinations, and significant non-compliance definitions; Safe Drinking Water Information (SDWIS) reporting requirements; guidance for State primacy revision applications, and special primacy requirements; and a series of “stand-alone” fact sheet guidance materials for States and Public Water Systems. The guidance document describes the new standards for uranium, as well as the revisions to the radionuclides monitoring framework.

The Appendices to the document provide further information and tools to assist States and EPA Regional Offices with primacy revisions and Rule implementation, including: Violation tables to assist with compliance determination; a sample Extension Agreement between EPA and the States to document how implementation responsibilities will be shared if States do not submit a primacy applications by the deadline; a primacy revision crosswalk; a “stand-alone” State reporting guidance; rule training materials; and beta and photon emitter conversion tables.

DATES: Comments must be submitted on or before March 30, 2001.

ADDRESSES: Address all comments concerning this Notice to Ed Thomas, Office of Ground Water and Drinking Water (MC-4606), U.S. Environmental Protection Agency, 1200 Pennsylvania Avenue, NW., Washington, DC 20460. See SUPPLEMENTARY INFORMATION section for information to request a copy of the draft guidance and electronic addresses.

FOR FURTHER INFORMATION CONTACT: For general information related to the Radionuclides Rule, contact: Ed Thomas, at (202) 260-0910 or e-mail to thomas.edwin@epamail.epa.gov.

SUPPLEMENTARY INFORMATION: Copies of the draft guidance may be obtained by contacting the Safe Drinking Water Hotline at 800-426-4791, or at EPA's Office of Ground Water and Drinking Water's (OGWDW) Web Site: http://www.epa.gov/safewater/rads/implement.html, or by contacting Ed Thomas of OGWDW at (202) 260-0910 or by e-mail at thomas.edwin@epamail.epa.gov.

Cynthia C. Dougherty,
Director, Office of Ground Water and Drinking Water, Environmental Protection Agency.

[FR Doc. 01-1521 Filed 1-17-01; 8:45 am]

BILLING CODE 6560-50-P